DEPARTMENT OF LABOR

Office of the Secretary

Submission for OMB Review: Comment Request

January 5, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation, including among other things a description of the likely respondents, proposed frequency of response, and estimated total burden may be obtained from the RegInfo.gov Web site at http://www.reginfo.gov/public/do/PRAMain or by contacting Mary Beth Smith-Toomey on 202-693-4223 (this is not a toll-free number)/e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Training Administration.

Type of Review: Revision of a Currently Approved Collection.

Title of Collection: Migrant and Seasonal Farmworker (MSFW) Monitoring Report and One-Stop Career Center Complaint/Referral Record.

OMB Control Number: 1205-0039.

Agency Form Numbers: ETA 8429 and ETA 5148.

Affected Public: Individuals and households and State, Local or Tribal Governments.

Total Estimated Number of Respondents: 2,194.

Total Estimated Annual Burden Hours: 1,566.

Total Estimated Annual Costs Burden: $0.

Description: These forms are necessary as part of Federal regulations at 20 CFR Parts 651, 653 and 658. The Form ETA 5148 collects data which are primarily used to monitor and measure the extent and effectiveness of State Workforce Agencies' service delivery to migrant and seasonal farm workers (MSFWs). The Form ETA 8429, the One-Stop Career Center Compliance Referral Record, is used to collect and document complaints filed by MSFWs and non-MSFWs regarding service delivery. For additional information, see related notice published at Volume 73 FR 37499 on July 01, 2008.

Darrin A. King,
Departmental Clearance Officer.

[FR Doc. E9-207 Filed 1-8-09; 8:45 am]

BILLING CODE 4510-FN-P